DEPARTMENT OF ENERGY

Federal Energy Regulatory Commission

[Docket No. EL02-97-000, et al.]

East Kentucky Power Cooperative, Inc., et al.; Electric Rate and Corporate Regulation Filings

June 12, 2002.

The following filings have been made with the Commission. The filings are listed in ascending order within each docket classification.

1. East Kentucky Power Cooperative, Inc. Complainant, v. Louisville Gas & Electric Company, Kentucky Utilities Company Respondent

[Docket No. EL02-97-000]

Take notice that on June 10, 2002, East Kentucky Power Cooperative, Inc. (EKPC) filed a complaint under Sections 206 and 306 of the Federal Power Act, 18 USC 824e and 825e, and Rule 206 of the Commission's Rules and Regulations against Louisville Gas & Electric Company and Kentucky Utilities Company, alleging that these companies have begun overcharging East Kentucky Power Cooperative for transmission services in violation of FERC-approved settlement agreements.

Comment Date: July 1, 2002.

2. Entergy Services, Inc.

[Docket No. ER02-2021-000]

Take notice that on June 3, 2002, Entergy Services, Inc., on behalf of Entergy Gulf States, Inc. (Entergy Gulf States), tendered for filing six copies of a Notice of Termination of the Interconnection and Operating Agreement and Generator Imbalance Agreement between Entergy Gulf States and The Goodyear Tire & Rubber Company.

Comment Date: June 24, 2002.

3. Western Resources, Inc.

[Docket No. ER02-2022-000]

Take notice that on June 3, 2002, Western Resources, Inc. (WR) (d.b.a. Westar Energy) tendered for filing a Service Agreement between WR and the South Carolina Electric & Gas Company (SCEG). WR states that the purpose of this agreement is to permit SCEG to take service under WR's Market Based Power Sales Tariff on file with the Commission. This agreement is proposed to be effective May 1st, 2002.

Copies of the filing were served upon SCEG and the Kansas Corporation Commission.

Comment Date: June 24, 2002.

4. Western Resources, Inc., Kansas Gas and Electric Company

[Docket No. ER02-2023-000]

Take notice that on June 3, 2002, Western Resources, Inc. (WR) (d.b.a. Westar Energy), submitted for filing Revised Pages 34-42 (Exhibits B, C and D) to KGE's Electric Power, Transmission, and Service Contract with the Kansas Electric Power Cooperative (KEPCo). WR also submitted, on behalf of its wholly owned subsidiary Kansas Gas and Electric Company (KGE) (d.b.a. Westar Energy), Revised Pages 31-36 (Exhibits B, and C) to KGE's Electric Power, Transmission, and Service Contract with the KEPCo. These revisions are part of WR's and KGE's annual exhibits filed with the Federal Energy Regulatory Commission. The revised pages are proposed to be effective June 1, 2002.

Copies of the filing were served upon KEPCo and the Kansas Corporation Commission.

Comment Date: June 24, 2002.

5. Xcel Energy Services, Inc.

[Docket No. ER02-2024-000]

Take notice that on June 3, 2002 Xcel Energy Services, Inc. (XES), on behalf of Southwestern Public Service Company (SPS), submitted for filing a First Amendment to the Transaction Agreement between SPS and West Texas Municipal Power Agency (WTMPA).

XES requests that this agreement become effective on June 1, 2002.

Comment Date: June 24, 2002.

6. CalPeak Power—Panoche LLC, CalPeak Power—Vaca Dixon LLC, CalPeak Power—El Cajon LLC, CalPeak Power—Enterprise LLC, CalPeak Power—Border LLC.

[Docket No. ER02-2025-000]

Take notice that on June 3, 2002, CalPeak Power—Panoche LLC, CalPeak Power—Vaca Dixon LLC, CalPeak Power—El Cajon LLC, CalPeak Power—Enterprise LLC, and CalPeak Power—Border LLC tendered for filing long-term service agreements under their respective FERC Electric Tariffs, Original Volume No. 1.

Comment Date: June 24, 2002.

7. Quachita Power, LLC

[Docket No. ER02-2026-000]

Take notice that on June 4, 2002, Quachita Power, LLC tendered for filing a Notice of Succession pursuant to 18 CFR 35.16 of the Federal Energy Regulatory Commission's regulations in order to reflect its name change from Quachita Power, LLC.

Comment Date: June 25, 2002.

8. Public Service Company of New Mexico

[Docket No. ER02-2027-000]

Take notice that on June 4, 2002, Public Service Company of New Mexico (PNM) filed a Notice of Cancellation with the Federal Energy Regulatory Commission with respect to Service Schedule J—Hazard Sharing, under the Master Interconnection Agreement between PNM and Tri-State Generation and Transmission Association, Inc. (Tri-State) (Supplement No. 36, as supplemented, to PNM Rate Schedule FERC No. 31). Pursuant to the provisions of Service Schedule J, Tri-State provided notice of its intent to terminate the service schedule. Consistent with the provisions of Service Schedule J, and the notice requirements of 18 CFR 35.15, PNM requests that cancellation of Supplement No. 36 (as supplemented) to PNM Rate Schedule FERC No. 31 become effective on August 3, 2002. The Notice of Cancellation is available for public inspection during normal business hours at PNM's offices in Albuquerque, New Mexico.

A copy of the filing has been served upon Tri-State and an informational copy was provided to the New Mexico Public Regulation Commission and the New Mexico Attorney General.

Comment Date: June 25, 2002.

9. American Electric Power Service Corporation

[Docket No. ER02-2028-000]

Take notice that on June 4, 2002, the American Electric Power Service Corporation (AEPSC), tendered for filing Firm Point-to-Point Transmission (PTP) Service Agreements and Long-Term Firm PTP Service Agreement Specifications for AEPSC's Wholesale Power Merchant Organization and Constellation Power Source, Inc. These agreements are pursuant to the AEP Companies' Open Access Transmission Service Tariff that has been designated as the Operating Companies of the American Electric Power System FERC Electric Tariff Second Revised Volume No. 6.

AEPSC requests waiver of notice to permit the Service Agreements to be made effective on and after June 1, 2002. A copy of the filing was served upon the Parties and the state utility regulatory commissions of Arkansas, Indiana, Kentucky, Louisiana, Michigan, Ohio, Oklahoma, Tennessee, Texas, Virginia and West Virginia.

Comment Date: June 25, 2002.

10. Xcel Energy Services, Inc.

[Docket No. ER02-2029-000]

Take notice that on June 4, 2002 Xcel Energy Services, Inc. (XES), on behalf of Southwestern Public Service Company (SPS), submitted for filing a Transmission Agent Agreement between SPS and Lea County Electric Cooperative, Inc. (Lea County).

XES requests that this agreement become effective on January 14, 2002.

Comment Date: June 25, 2002.

11. Xcel Energy Services, Inc.

[Docket No. ER02-2030-000]

Take notice that on June 4, 2002 Xcel Energy Services, Inc. (XES), on behalf of Southwestern Public Service Company (SPS), submitted for filing a Transmission Agent Agreement between SPS and Cap Rock Electric Cooperative, Inc. (Cap Rock).

XES requests that this agreement become effective on January 14, 2002.

Comment Date: June 25, 2002.

12. Wisconsin Electric Power Company

[Docket No. ER02-2031-000]

Take notice that on June 4, 2002. Wisconsin Electric Power Company (Wisconsin Electric), tendered for filing an electric service agreement between the Wisconsin Energy Corporation Operating Companies (WEC Operating Companies) and Midwest Independent System Operator (MISO) under the WEC Operating Companies Joint Ancillary Services Tariff. (WEC Operating Companies FERC Electric Tariff, Original Volume No. 2). Wisconsin Electric respectfully requests an effective date February 1, 2002.

Copies of the filing have been served on MISO, the Michigan Public Service Commission, and the Public Service Commission of Wisconsin.

Comment Date: June 25, 2002.

13. Midwest Independent Transmission System Operator, Inc., American Transmission Company LLC

[Docket No. ER02-2033-000]

Take notice that on June 5, 2002, the Midwest Independent Transmission System Operator, Inc. (Midwest ISO) and American Transmission Company LLC (ATCLLC) tendered for filing revisions to the Midwest ISO open access transmission tariff to add limitation of liability provisions. Applicant request an effective date of August 5, 2002. The Midwest ISO seeks waiver of the Commission's regulations, 18 CFR 385.2010 (2000) with respect to service on all required parties. The Midwest ISO has posted this filing on its Internet site at www.midwestiso.org, and the Midwest ISO will provide hard copies to any interested parties upon request.

Comment Date: June 26, 2002.

14. Xcel Energy Services, Inc.

[Docket No. ER02-2034-000]

Take notice that on June 5, 2002 Xcel Energy Services, Inc. (XES), on behalf of Southwestern Public Service Company (SPS), submitted for filing a Transmission Agent Agreement between SPS and Lyntegar Electric Cooperative, Inc. (Lyntegar).

XES requests that this agreement become effective on January 14, 2002.

Comment Date: June 26, 2002.

15. Xcel Energy Services, Inc.

[Docket No. ER02-2035-000]

Take notice that on June 5, 2002 Xcel Energy Services, Inc. (XES), on behalf of Southwestern Public Service Company (SPS), submitted for filing a Transmission Agent Agreement between SPS and Farmers' Electric Cooperative, Inc. of New Mexico (Farmers').

XES requests that this agreement become effective on January 14, 2002.

Comment Date: June 26, 2002.

16. Texas-New Mexico Power Company

[Docket No. ER02-2036-000]

Take notice that on June 6, 2002, Texas-New Mexico Power Company (TNMP) tendered for filing an Interconnection and Operating Agreement (Interconnection Agreement) between TNMP and Public Service Company of New Mexico (PNM). TNMP requests waiver of the Commission's prior notice requirement so that the Interconnection Agreement is made effective May 31, 2002.

Copies of the filing were served upon PNM and the New Mexico Public Regulation Commission.

Comment Date: June 27, 2002.

17. Idaho Power Company

[Docket No. ER02-2037-000]

Take notice that on June 5, 2002, Idaho Power Company filed a Service Agreement for Firm Point-to-Point Transmission Service between Idaho Power Company and Bonneville Power Administration, under its open access transmission tariff in the above-captioned proceeding.

Comment Date: June 26, 2002.

18. Idaho Power Company

[Docket No. ER02-2038-000]

Take notice that on June 5, 2002, Idaho Power Company filed a Service Agreement for Firm Point-to-Point Transmission Service between Idaho Power Company and Idaho Power Supply, under its open access transmission tariff in the above-captioned proceeding.

Comment Date: June 26, 2002.

19. Public Service Company of New Mexico

[Docket No. ER02-2039-000]

Take notice that on June 5, 2002, Public Service Company of New Mexico (PNM) submitted for filing an executed copy of a service agreement with Overton Power District No. 5, dated May 22, 2002, for electric energy and/or capacity sales at negotiated market-based rates under PNM's Power and Energy Sales Tariff (FERC Electric Tariff, First Revised volume No. 3). PNM has requested an effective date of June 1, 2002 for the service agreement. PNM's filing is available for public inspection at its offices in Albuquerque, New Mexico.

Copies of this filing have been served upon Overton Power District No. 5, the New Mexico Public Regulation Commission, and the New Mexico Attorney General.

Comment Date: June 26, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-15380 Filed 6-19-02; 8:45 am]

BILLING CODE 6717-01-P